DEPARTMENT OF TRANSPORTATION

Federal Railroad Administration

[Docket Number FRA-2013-0128]

Petition for Waiver of Compliance

In accordance with Part 211 of Title 49 Code of Federal Regulations (CFR), this document provides the public notice that by a document dated October 9, 2013, the National Railroad Passenger Corporation (Amtrak) has petitioned the Federal Railroad Administration (FRA) for a waiver of compliance from certain provisions of the Federal railroad safety regulations contained at 49 CFR chapter II, subtitle B . The request was assigned Docket Number FRA-2013-0128.

Amtrak would like to increase Acela trainset maximum authorized speeds (MAS) on its Northeast Corridor (NEC) in limited locations (in Rhode Island from Kingston Milepost 154.3 to Warwick Milepost 171.7) from 150 mph to 160 mph. As part of this gradual process to safely increase Acela speeds, Amtrak is requesting permission from FRA to permanently waive certain provisions of 49 CFR Chapter II, Subtitle B, particularly the provisions of the Advanced Civil Speed Enforcement System (ACSES) Final Order of Particular Applicability, which was issued on July 22, 1998 [FRA Docket No. 87-2, Notice No.7], for this single location.

In 1998, FRA issued an Order of Particular Applicability requiring all trains operating on the NEC between New Haven, CT, and Boston, MA (NEC-North End), to be equipped to respond to Amtrak's ACSES as a supplement to its Automatic Train Control (ATC) system. In response, Amtrak installed a system designed to enforce civil speed restrictions, both permanent and temporary, and to enforce a positive stop at interlocking home signals. This system was installed and placed in service beginning in 2000 with the startup of premium Acela service. At the same time that ACSES was installed, additional cab signal codes and aspects were provided to support higher speed operations for civil speed enforcement. The combination of ACSES and the existing ATC system, supported by the underlying traffic control system, provided the core requirements of a Positive Train Control system. The ATC system enforces all speeds associated with the signal system preventing train-to-train collisions (49 CFR 236.1005(a)(1)(i)), and the ACSES system prevents trains from passing stop signals at interlocking home signals. ACSES enforces all permanent civil speed restrictions and temporary restrictions (slow orders), thereby preventing overspeed derailments (49 CFR 236.1005(a)(1)(ii)). With time, improvements have been made to the initial ACSES configuration to expedite train movements at home signals and obviate the need for placement of temporary transponders. The current configuration of this technology is known as ACSES II.

As part of its risk and hazard assessment, Amtrak recognizes that the safety of the signal and train control system must be established. ACSES and Amtrak's nine-aspect cab signal/ATC system are presently configured to enforce relevant signals, as well as permanent and temporary speed restrictions, by equipment class. Modifications to the transponder database will be required and existing transponders will be reprogrammed through the affected area. It will be necessary to demonstrate that both systems function as intended through testing designed to validate and verify the modifications. This includes reading transponders and receiving cab signal code at the higher speeds. Furthermore, analysis and testing will be required to associate stopping distances from MAS with existing signal spacing based on all relevant factors. Amtrak will initially seek to gain approval of a test plan for this activity under 49 CFR 236.1035. When the test plan has been successfully completed, Amtrak will make the necessary filings under 49 CFR Part 263 (Subpart I) to obtain safety certification of the newly configured system. Amtrak assumes that successful completion of this work will be a condition on any relief provided under this request becoming effective.

This initial step of modifying the provisions of the ACSES Final Order of Particular Applicability will allow Amtrak the ability to collect relevant real-time data as it demonstrates that its Acela operation at a MAS of 160 mph is safe and viable. Amtrak is hoping that increased MAS for Acela service will make better use of limited resources while reducing trip times for NEC riders and will help to build ridership and market share.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2013-0128) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 28, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-02865 Filed 2-10-14; 8:45 am]

BILLING CODE 4910-06-P